DEPARTMENT OF HEALTH AND HUMAN SERVICES

Centers for Disease Control and Prevention

[60Day-11-07BH]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Daniel Holcomb, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Environmental Health Specialists Network (EHS-NET) Program Generic Package (no. 0920-0792; expiration date: 10/31/2011)—Revision—National Center for Environmental Health (NCEH), Centers for Disease Control and Prevention (CDC).

Background and Brief Description

The CDC is requesting OMB approval for three additional years to use this generic clearance for a research program focused on identifying the environmental causes of foodborne illness. This revision will provide OMB clearance for EHS-NET data collections conducted in 2011 through 2014 (a maximum of 3 annually). The program is revising the generic information collection request (ICR)in the following ways:

(1) We reduced the number of respondent groups from 3 to 1.

(2) We reduced the number of studies we expect to conduct on an annual basis, which reduces the estimated burden.

(3) We will use enhanced statistical methods in comparison to the previous ICR. Specifically, we plan to collect generalizable data.

Reducing foodborne illness first requires identification and understanding of the environmental factors that cause these illnesses. We need to know how and why food becomes contaminated with foodborne illness pathogens. This information can then be used to determine effective food safety prevention methods. Ultimately, these actions can lead to increased regulatory program effectiveness and decreased foodborne illness. The purpose of this food safety research program is to identify and understand environmental factors associated with foodborne illness and outbreaks. This program will continue to involve up to 3 data collections a year. This program is conducted by the Environmental Health Specialists Network (EHS-NET), a collaborative project of CDC, FDA, USDA, and six state/local sites (CA, NYC, NY, MN, RI, and TN).

Environmental factors associated with foodborne illness include both food safety practices (e.g., inadequate cleaning practices) and the factors in the environment associated with those practices (e.g., worker and retail food establishment characteristics). To understand these factors, we need to continue to collect data from those who prepare food (i.e., food workers) and on the environments in which the food is prepared (i.e., retail food establishment kitchens). Thus, data collection methods for this generic package include: (1) Worker interviews/surveys, and (2) observation of kitchen environments. Both methods allow data collection on food safety practices and environmental factors associated with those practices.

For each data collection, we will collect data in approximately 80 retail food establishments per EHS-NET site. Thus, there will be approximately 480 establishments per data collection (6 sites*80 establishments). For each data collection, we will collect interview/survey data from 1 to 3 workers per establishment. Each respondent will respond only once. Each worker interview/survey will take approximately 30 minutes. Thus, the maximum annual burden for the interview/surveys per data collection will be 720 hours (480 establishments*3 workers*30 minutes). As we plan to conduct up to 3 data collections annually, the maximum annual worker interview/survey burden will be 2,160 hours (720 hours*3 data collections).

We expect a worker response rate of approximately 70 percent. Thus, for each data collection, we will need to conduct a recruiting screener with approximately 2,057 worker respondents to obtain the needed number of respondents. Each respondent will respond only once. Each screener will take approximately 3 minutes. Thus, the maximum annual burden for the recruiting screeners per data collection will be 103 hours (2,057 workers*3 minutes). As we plan to conduct up to 3 data collections annually, the maximum annual burden will be 309 hours (103 hours*3 data collections). Thus, the maximum annual burden will be 2,469 hours (2,160 hours for worker interview/surveys + 309 hours for worker recruiting screener). There is no cost to the respondent other than their time.

Estimated Annualized Burden Hours
Type of respondents | Form name | Number of respondents | Number of responses per respondent | Average burden per response (in hours) | Total burden (in hours)
Retail food workers | Interview/survey | 4,320 | 1 | 30/60 | 2,160
Retail food workers | Recruiting screener | 6,171 | 1 | 3/60 | 309
Total |  |  |  |  | 2,469

Daniel Holcomb,
Reports Clearance Officer, Centers for Disease Control and Prevention.

[FR Doc. 2011-15682 Filed 6-22-11; 8:45 am]

BILLING CODE 4163-18-P